DEPARTMENT OF THE TREASURY

Office of the Comptroller of the Currency

12 CFR Parts 19 and 109

Notice of Inflation Adjustments for Civil Money Penalties

Correction

In rule document 2018-27784, appearing on pages 66599 through 66601, in the issue of Thursday, December 27, 2018, make the following corrections:

1. On page 66600, in the table, in the second column, on the tenth line, “Tier 3²2,013,399” should read, “Tier 3”.

2. On the same page, in the same table, in the third column, on the tenth line, the blank space should be replaced with, “² 2,013,399”.

[FR Doc. C1-2018-27784 Filed 2-26-19; 8:45 am]

BILLING CODE 1301-00-D